DEPARTMENT OF THE INTERIOR

Fish and Wildlife Service

Notice of Availability; Travis County TX; Golden-Cheeked Warbler

Notice of Availability of an Environmental Assessment/Habitat Conservation Plan and Receipt of Application for an Incidental Take Permit for the Endangered Golden-cheeked Warbler (Dendroica chrysoparia) During Construction and Operation of a Six-Unit Condominium and One Single-family Residence on Lots One and Two (29.86 acres) at the Southwest Corner of Bridge Point Parkway and City Park Road, Austin, Travis County, Texas (Gray Mountain).

SUMMARY: Gray Mountain, Ltd. (Applicant) has applied to the U.S. Fish and Wildlife Service (Service) for an incidental take permit pursuant to Section 10(a) of the Endangered Species Act (Act). The Applicant has been assigned permit number TE-037888-0. The requested permit, which is for a period of 30 years, would authorize the incidental take of the endangered golden-cheeked warbler (Dendroica chrysoparia). The proposed take would occur as a result of the construction and operation of a six-unit Condominium and one single-family residence on a portion of the 29.86 acres of Lots one and two, Coldwater Section one, Phase A, Travis County, Texas.

The Service has prepared the Environmental Assessment/Habitat Conservation Plan (EA/HCP) for the incidental take application. A determination of jeopardy to the species or a Finding of No Significant Impact (FONSI) will not be made until at least 60 days from the date of publication of this notice. This notice is provided pursuant to Section 10(c) of the Act and National Environmental Policy Act regulations (40 CFR 1506.6).

DATES: Written comments on the application and the EA/HCP should be received on or before May 4, 2001.

ADDRESSES: Persons wishing to review the application may obtain a copy by writing to the Regional Director, U.S. Fish and Wildlife Service, P.O. Box 1306, Room 4102, Albuquerque, New Mexico 87103. Persons wishing to review the EA/HCP may obtain a copy by written or telephone request to Scott Rowin, U.S. Fish and Wildlife Service, Ecological Services Office, 10711 Burnet Road, Suite 200, Austin, Texas 78758 (512/490-0063). Documents will be available for public inspection by written request or by appointment only during normal business hours (8:00 to 4:30) at the U.S. Fish and Wildlife Service Office, Austin, Texas. Data or comments concerning the application and EA/HCP should be submitted in writing to the Field Supervisor, U.S. Fish and Wildlife Service Office, Austin, Texas at the above address. Please refer to permit number TE-037888-0 when submitting comments.

FOR FURTHER INFORMATION CONTACT: Scott Rowin, at the above U.S. Fish and Wildlife Service Office, Austin, TX.

SUPPLEMENTARY INFORMATION: Section 9 of the Act prohibits the “taking” of endangered species such as the golden-cheeked warbler. However, the Service, under limited circumstances, may issue permits to take endangered wildlife species incidental to, and not the purpose of, otherwise lawful activities. Regulations governing permits for endangered species are at 50 CFR 17.22.

Applicant: Gray Mountain, Ltd. plans to construct and operate a six-unit Condominium and one single-family residence, with associated access road/driveway, utilities, and other associated improvements and facilities, on portions of the approximately 29.86-acre property. As proposed, the six-unit condominium will be constructed on Lot One and the single-family residence will be constructed on Lot two, Coldwater Section one, Phase A, Travis County, Texas. This action will eliminate approximately 4.6 acres of habitat and indirectly impact 14.4 additional acres of golden-cheeked warbler habitat. The Applicant proposes to compensate for this incidental take of golden-cheeked warbler habitat by donating through fee simple or conservation easement to Travis County the remaining 25.26 acres of the property, and providing an additional $33,250.00 to the Balcones Canyonlands Preserve, as administered by Travis County and managed by the City of Austin, for the specific purpose of land acquisition within golden-cheeked warbler habitat or for the management and maintenance of existing preserve lands. This on-site mitigation land is adjacent to existing Balcones Canyonlands Preserve land and will be managed by the City of Austin as such.

Frank S. Shoemaker, Jr.,
Acting Regional Director, Southwest Region, Albuquerque, New Mexico.

[FR Doc. 01-5163 Filed 3-2-01; 8:45 am]

BILLING CODE 4510-55-P